DEPARTMENT OF ENERGY

Federal Energy Regulatory Commission

Combined Notice of Filings #1

Take notice that the Commission received the following electric rate filings:

Docket Numbers: ER09-1224-007.

Applicants: Entergy Operating Companies.

Description: Entergy Operating Companies Errata to September 15, 2014 Service Schedule MSS-3 Bandwidth Formula Comprehensive Recalculation.

Filed Date: 9/30/14.

Accession Number: 20140930-5355.

Comments Due: 5 p.m. ET 10/21/14.

Docket Numbers: ER10-3286-005; ER10-3299-004.

Applicants: Millennium Power Partners, L.P., New Athens Generating Company, LLC.

Description: Supplement to June 25, 2014 Triennial Market Power Report of Millennium Power Partners, L.P., et. al.

Filed Date: 9/30/14.

Accession Number: 20140930-5359.

Comments Due: 5 p.m. ET 10/21/14.

Docket Numbers: ER14-2321-001.

Applicants: Duke Energy Progress, Inc.

Description: Compliance filing per 35: Supplement to Southeast MBR Filing to be effective 3/1/2014.

Filed Date: 10/1/14.

Accession Number: 20141001-5153.

Comments Due: 5 p.m. ET 10/22/14.

Docket Numbers: ER14-2657-000.

Applicants: El Paso Electric Company.

Description: Supplement to August 14, 2014 El Paso Electric Company tariff filing.

Filed Date: 9/30/14.

Accession Number: 20140930-5345.

Comments Due: 5 p.m. ET 10/21/14.

Docket Numbers: ER14-2978-000.

Applicants: Coolidge Power LLC.

Description: § 205(d) rate filing per 35.13(a)(2)(iii): Revised Tariff Filing to be effective 10/1/2014.

Filed Date: 9/30/14.

Accession Number: 20140930-5322.

Comments Due: 5 p.m. ET 10/21/14.

Docket Numbers: ER14-2979-000.

Applicants: NV Energy, Inc.

Description: Compliance filing per 35: OATT Revisions to Schedules 5 and 6—Reserve Service to be effective 10/1/2014.

Filed Date: 9/30/14.

Accession Number: 20140930-5328.

Comments Due: 5 p.m. ET 10/21/14.

Docket Numbers: ER14-2980-000.

Applicants: New England Power Pool Participants Committee.

Description: § 205(d) rate filing per 35.13(a)(2)(iii): October 2014 Membership Filing to be effective 9/1/2014.

Filed Date: 9/30/14.

Accession Number: 20140930-5335.

Comments Due: 5 p.m. ET 10/21/14.

Docket Numbers: ER14-2981-000.

Applicants: El Paso Electric Company.

Description: § 205(d) rate filing per 35.13(a)(2)(iii): OATT Updates to Schedules 5 and 6 to be effective 10/1/2014.

Filed Date: 9/30/14.

Accession Number: 20140930-5336.

Comments Due: 5 p.m. ET 10/21/14.

Docket Numbers: ER14-2982-000.

Applicants: Millennium Power Partners, L.P.

Description: Compliance filing per 35: Change in Status Filing to be effective 10/1/2014.

Filed Date: 9/30/14.

Accession Number: 20140930-5337.

Comments Due: 5 p.m. ET 10/21/14.

Docket Numbers: ER14-2983-000.

Applicants: Idaho Power Company.

Description: § 205(d) rate filing per 35.13(a)(2)(iii): First Revised BPA PF and OTEC NITSAs to be effective 10/1/2014.

Filed Date: 9/30/14.

Accession Number: 20140930-5339.

Comments Due: 5 p.m. ET 10/21/14.

Docket Numbers: ER14-2984-000.

Applicants: San Diego Gas & Electric Company.

Description: § 205(d) rate filing per 35.13(a)(2)(iii): SDGE TO4 Formula Depreciation Rate Change to be effective 1/1/2015.

Filed Date: 9/30/14.

Accession Number: 20140930-5340.

Comments Due: 5 p.m. ET 10/21/14.

Docket Numbers: ER14-2985-000.

Applicants: Transource, LLC.

Description: Unopposed Request for Waiver of Part VI of the PJM Open Access Transmission Tariff to Allow the Conversion of Attachment SS Interconnection Requests to Attachment EE Upgrade Requests Without Loss of Queue Priority of Transource, LLC.

Filed Date: 9/30/14.

Accession Number: 20140930-5368.

Comments Due: 5 p.m. ET 10/21/14.

Docket Numbers: ER15-1-000.

Applicants: TransCanada Energy Sales Ltd.

Description: § 205(d) rate filing per 35.13(a)(2)(iii): TransCanada Energy Sales—Revised Electric Tariff to be effective 10/2/2014.

Filed Date: 10/1/14.

Accession Number: 20141001-5091.

Comments Due: 5 p.m. ET 10/22/14.

Docket Numbers: ER15-2-000.

Applicants: Duke Energy Beckjord, LLC.

Description: § 205(d) rate filing per 35.13(a)(2)(iii): Supplement to Southeast MBR Filing to be effective 3/1/2014.

Filed Date: 10/1/14.

Accession Number: 20141001-5165.

Comments Due: 5 p.m. ET 10/22/14.

Docket Numbers: ER15-3-000.

Applicants: Commonwealth Edison Company, PJM Interconnection, L.L.C.

Description: § 205(d) rate filing per 35.13(a)(2)(iii): Modifications to Customers Identified to Attachment H-13 to be effective 10/13/2014.

Filed Date: 10/1/14.

Accession Number: 20141001-5166.

Comments Due: 5 p.m. ET 10/22/14.

Docket Numbers: ER15-4-000.

Applicants: Westar Energy, Inc.

Description: Tariff Withdrawal per 35.15: Notice of Cancellation of Rate Schedules to be effective 11/1/2013.

Filed Date: 10/1/14.

Accession Number: 20141001-5207.

Comments Due: 5 p.m. ET 10/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 1, 2014.
Nathaniel J. Davis, Sr.,
Deputy Secretary.

[FR Doc. 2014-24106 Filed 10-8-14; 8:45 am]

BILLING CODE 6717-01-P